DEPARTMENT OF ENERGY

10 CFR Part 609

RIN 1901-AB27

Loan Guarantees for Projects That Employ Innovative Technologies

AGENCY: Office of the Chief Financial Officer, Department of Energy (DOE).

ACTION: Proposed rule; extension of public comment period.

SUMMARY: This notice announces that the period for submitting comments on the proposed rule to amend the regulations implementing the loan guarantee program authorized by section 1703 of Title XVII of the Energy Policy Act of 2005 is extended to September 22, 2009. In the proposed rule, DOE considers certain changes to: Provide flexibility in the determination of appropriate structures, collateral packages to secure guaranteed loan obligations, and other credit support; facilitate collateral sharing and related inter-creditor arrangements with other project lenders; and provide a more workable interpretation of certain statutory provisions regarding DOE's treatment of collateral.

DATES: Comments must be postmarked no later than September 22, 2009.

ADDRESSES: Any comments submitted must reference the proposed rule to amend the regulations implementing the Title XVII loan guarantee program and RIN number 1901-AB21. Comments may be submitted using any of the following methods:

• Federal eRulemaking Portal: http://www.regulations.gov. Follow the instructions for submitting comments.

• E-mail: lgprogram@hq.doe.gov. Include RIN number 1901-AB21 in the subject line of the message.

• Postal Mail: David G. Frantz, Director, Loan Guarantee Program Office, Office of the Chief Financial Officer, U.S Department of Energy, 1000 Independence Avenue, SW., Washington, DC 20585-0121. Please submit one signed original paper copy.

• Hand Delivery/Courier: David G. Frantz, Director, Loan Guarantee Program Office, Office of the Chief Financial Officer, U.S. Department of Energy, 1000 Independence Avenue, SW., Washington, DC 20585-0121. Please submit one signed original paper copy.

FOR FURTHER INFORMATION CONTACT: David G. Frantz, Director, Loan Guarantee Program Office, Office of the Chief Financial Officer, 1000 Independence Avenue, SW., Washington, DC 20585-0121, (202) 586- 8336, e-mail: lgprogram@hq.doe.gov; or Susan S. Richardson, Chief Counsel for the Loan Guarantee Program, Office of the General Counsel, 1000 Independence Avenue, SW., Washington, DC 20585-0121, (202) 586-8336, e-mail: lgprogram@hq.doe.gov.

SUPPLEMENTARY INFORMATION: On August 7, 2009, DOE published a proposed rule in the Federal Register to make certain changes to: (1) Provide flexibility in the determination of appropriate structures, collateral packages to secure guaranteed loan obligations, and other credit support; (2) facilitate collateral sharing and related inter-creditor arrangements with other project lenders; and (3) provide a more workable interpretation of certain statutory provisions regarding DOE's treatment of collateral. (74 FR 39565) The proposed rule provided for the submission of comments by September 8, 2009. In response to a request for additional time to comment on the proposed rule, DOE hereby extends the comment period and will consider any comments postmarked no later than September 22, 2009. DOE deems any comments received after publication of the proposed rule and by the September 22, 2009 postmark deadline to be timely submitted.

Issued in Washington, DC, on September 3, 2009.
Steve Isakowitz,
Chief Financial Officer.

[FR Doc. E9-21756 Filed 9-9-09; 8:45 am]

BILLING CODE 6450-01-P